INTERNATIONAL TRADE COMMISSION

[Investigation No. 332-458]

Commercial Availability of Apparel Inputs (2004): Effect of Providing Preferential Treatment to Apparel From Sub-Saharan African, Caribbean Basin, and Andean Countries

AGENCY: United States International Trade Commission.

ACTION: Institution of investigation.

EFFECTIVE DATE: February 2, 2004.

SUMMARY: Following receipt of a request from the United States Trade Representative (USTR) on January 27, 2004, the Commission instituted investigation No. 332-458, Commercial Availability of Apparel Inputs (2004): Effect of Providing Preferential Treatment to Apparel from Sub-Saharan African, Caribbean Basin, and Andean Countries. The Commission instituted the investigation under section 332(g) of the Tariff Act of 1930 (19 U.S.C. 1332(g)) to provide advice regarding the probable economic effect of granting preferential treatment to apparel made from fabrics or yarns that are the subject of petitions filed in 2004 with the Committee for the Implementation of Textile Agreements (CITA) under the “commercial availability” provisions of the African Growth and Opportunity Act (AGOA), the United States-Caribbean Basin Trade Partnership Act (CBTPA), and the Andean Trade Promotion and Drug Eradication Act (ATPDEA). The Commission conducted similar investigations in the years 2001-03 to provide advice with respect to petitions filed in those years.

FOR FURTHER INFORMATION CONTACT: For general information, contact Jackie W. Jones (202-205-3466, jones@usitc.gov) of the Office of Industries; for information on legal aspects, contact William Gearhart (202-205-3091, wgearhart@usitc.gov) of the Office of the General Counsel. The media should contact Margaret O'Laughlin, Public Affairs Officer (202-205-1819). Hearing impaired individuals may obtain information on this matter by contacting the Commission's TDD terminal on 202-205-1810. Persons with mobility impairments who will need special assistance in gaining access to the Commission should contact the Office of the Secretary at 202-205-2000. General information about the Commission may be obtained by accessing its Internet server (http://www.usitc.gov). The public record for this investigation may be viewed on the Commission's electronic docket (EDIS) http://edis.usitc.gov.

Background: The Commission will follow procedures similar to those followed in the commercial availability reviews in 2003 under investigation No. 332-450. Thus, in 2004, the Commission will provide advice for each commercial availability review under one investigation number. In addition, the Commission will post a notification letter announcing the initiation of each review on its Internet site (http://www.usitc.gov) and send the notification letter to a list of interested parties who wish to be automatically notified via facsimile about any requests for which the Commission initiated analysis. Interested parties may be added to this list by notifying Jackie W. Jones (202-205-3466, jones@usitc.gov). The notification letter will specify the article(s) under consideration, the deadline for submission of public comments on the proposed preferential treatment, and the name, telephone number, and Internet e-mail address of a staff contact for additional information. The Commission has a special area on its Internet site (http://www.usitc.gov/332s/shortsup/shortsupintro.htm) to provide the public with information on the status of each request for which the Commission initiated analysis. CITA publishes a summary of each request from interested parties in the Federal Register and posts them on its Internet site (U.S. Department of Commerce, Office of Textiles and Apparel, at http://otexa.ita.doc.gov/fr.htm).

The Commission will submit its reports to the USTR not later than the 42nd day after receiving a request for advice. The Commission will issue a public version of each report as soon as possible thereafter, with any confidential business information deleted.

Written Submissions: Because of time constraints, the Commission will not hold public hearings in connection with the advice provided under this investigation number. However, interested parties will be invited to submit written statements (a signed original and 3 copies) concerning the matters to be addressed by the Commission in this investigation. The Commission is particularly interested in receiving input from the private sector on the likely effect of any proposed preferential treatment on affected segments of the U.S. textile and apparel industries, their workers, and consumers.

All written submissions must conform with the provisions of section 201.8 of the Commission's Rules of Practice and Procedure (19 CFR 201.8); any submissions that contain confidential business information must also conform with the requirements of section 201.6 of the Commission's Rules of Practice and Procedure (19 CFR 201.6). In the event that confidential treatment of the document is requested, an additional copy must be filed, in which the confidential information must be deleted. Section 201.6 of the rules requires that the cover of the document and the individual pages be clearly marked as to whether they are the “confidential” or “nonconfidential” version, and that the confidential business information be clearly identified by means of brackets. All written submissions, except for confidential business information, will be made available in the Office of the Secretary to the Commission for inspection by interested parties. The Commission may include confidential business information submitted in the course of this investigation in the reports to the USTR. The Commission will also issue a public version of each report. Any confidential business information received by the Commission in this investigation and used in preparing the reports to the USTR will not be published in the public version of the report in a manner that would reveal the operations of the firm supplying the information. All submissions should be addressed to the Secretary, United States International Trade Commission, 500 E Street, SW., Washington, DC 20436.

The Commission's rules do not authorize filing submissions with the Secretary by facsimile or electronic means, except to the extent permitted by section 201.8 of the Commission's Rules (19 CFR 201.8) (see Handbook for Electronic Filing Procedures, available on the Commission's Internet site at ftp://ftp.usitc.gov/pub/reports/electronic_filing_handbook.pdf). Persons with questions regarding electronic filing should contact the Secretary (202-205-2000 or edis@usitc.gov).

List of Subjects

Caribbean, African, Andean, tariffs, imports, yarn, fabric, and apparel.

By order of the Commission.
Issued: February 3, 2004.
Marilyn R. Abbott,
Secretary.

[FR Doc. 04-2687 Filed 2-6-04; 8:45 am]

BILLING CODE 7020-02-P